DEPARTMENT OF COMMERCE

National Oceanic and Atmospheric Administration

RIN 0648-BA59

Fisheries of the Caribbean, Gulf of Mexico, and South Atlantic; Amendment 21 to the Snapper-Grouper Fishery Management Plan of the South Atlantic

AGENCY: National Marine Fisheries Service (NMFS), National Oceanic and Atmospheric Administration (NOAA), Commerce.

ACTION: Notice of Intent (NOI) to prepare an environmental impact statement (EIS); request for comments.

SUMMARY: NMFS, Southeast Region, in collaboration with the South Atlantic Fishery Management Council (Council), intends to prepare an EIS to describe and analyze a range of alternatives for management actions to be included in Amendment 21 to the Snapper-Grouper Fishery Management Plan for the South Atlantic Region (Amendment 21). These alternatives will consider several management approaches for limiting effort in the snapper-grouper fishery, including: trip limits, endorsements, cooperatives, catch shares, regional quotas, and State-by-State quotas. The purpose of this amendment is to rationalize effort in the commercial snapper-grouper fishery in order to achieve and maintain optimum yield (OY), prevent overfishing, and rebuild overfished stocks. Rationalizing effort is expected to mitigate some of the problems resulting from derby fishing conditions or at least prevent the condition from becoming more severe. The purpose of this NOI is to solicit public comments on the scope of issues to be addressed in the EIS.

DATES: Written comments on the scope of issues to be addressed in the EIS will be accepted from January 12 to February 14, 5 p.m., Eastern time.

ADDRESSES: You may submit comments, identified by RIN 0648-BA59, by any one of the following methods:

• Electronic Submissions: Submit all electronic public comments via the Federal e-Rulemaking Portal http://www.regulations.gov.

• Mail: Karla Gore, Southeast Regional Office, NMFS, 263 13th Avenue South, St. Petersburg, FL 33701.

Instructions: No comments will be posted for public viewing until after the comment period is over. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0278” in the keyword search, then select “Send a Comment or Submission”. NMFS will accept anonymous comments (enter N/A in the required fields if you wish to remain anonymous). You may submit attachments to electronic comments in Microsoft Word, Excel, WordPerfect, or Adobe PDF file formats only.

FOR FURTHER INFORMATION CONTACT: Karla Gore; phone: (727) 824-5305.

SUPPLEMENTARY INFORMATION: Currently, nine snapper-grouper stocks are undergoing overfishing and five stocks are overfished. The Council and NMFS have implemented numerous regulatory changes in recent years in an effort to end and prevent overfishing and rebuild depleted snapper-grouper stocks. These regulatory measures have resulted in decreases to commercial quotas for several species, which has lead to derby fishing conditions. As a result, the length of time it takes for the quota for some species (e.g., golden tilefish, vermilion snapper, and black sea bass) to be reached, has decreased significantly, resulting in lengthy commercial sector closures.

It is anticipated that, under status quo management, incentives for derby behavior will persist in the snapper-grouper fishery, resulting in continued overcapitalization and derby fishery conditions. The fishery is expected to continue to be characterized by higher than necessary levels of capital investment, increased operating costs, increased likelihood of shortened seasons, reduced at-sea safety, wide fluctuations in domestic snapper-grouper supply and depressed ex-vessel prices, which may lead to deteriorating working conditions and lower profitability for participants.

For these reasons, the Council is considering several management approaches for limiting effort in the snapper grouper fishery, including: trip limits, endorsements, cooperatives, catch shares, regional quotas, and State-by-State quotas.

An NOI was previously published on January 22, 2008 (73 FR 3701) to develop an EIS for Amendment 18 to the Snapper-Grouper FMP to consider alternatives to establish a limited access privilege program for the snapper-grouper fishery. However, the Council postponed consideration of this action to a future amendment.

NMFS, in collaboration with the Council will develop an EIS to describe and analyze management alternatives to address the management needs described above. Those alternatives will include a “no action” alternative regarding each action.

In accordance with NOAA's Administrative Order 216-6, Section 5.02(c), Scoping Process, NMFS, in collaboration with the Council, has identified preliminary environmental issues as a means to initiate discussion for scoping purposes only. These preliminary issues may not represent the full range of issues that eventually will be evaluated in the EIS.

Copies of an information packet will be available from NMFS (see ADDRESSES).

Following publication of this NOI, the Council will conduct public scoping meetings to determine the range of issues to be addressed in the DEIS and the associated Amendment 21.

After the draft EIS (DEIS) associated with Amendment 21 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 3 p.m. In addition to Amendment 21, the Council intends to scope additional amendments at this series of meetings. Separate NOIs will be prepared for each amendment. The meetings will be physically accessible to people with disabilities. Requests for information packets or for sign language interpretation or other auxiliary aids should be directed to the Council (see FOR FURTHER INFORMATION CONTACT).

Monday, January 24, 2011—Hilton New Bern/Riverfront, 100 Middle Street, New Bern, NC 28560; phone 252-638-3585.

Wednesday, January 26, 2011—Crowne Plaza Charleston Airport, 4831 Tanger Outlet Boulevard, North Charleston, SC 29418; phone 843-744-4422.

Thursday, January 27, 2011—Mighty Eighth Air Force Museum, 175 Bourne Avenue, Pooler, GA 31322; phone 912-748-8888.

Monday, January 31, 2011—Jacksonville Marriott, 4670 Salisbury Road, Jacksonville, FL 32256; phone 904-296-2222.

Tuesday, February 1, 2011—International Palms Resort, 1300 N. Atlantic Avenue, Cocoa Beach, FL 32931; phone 321-783-2271.

Thursday, February 3, 2011—Key Largo Grande Resort, 97000 Overseas Resort, Key Largo, FL 33037; phone 305-852-5553.

Authority: 16 U.S.C. 1801 et seq.

Dated: December 28, 2010.
Emily H. Menashes,
Acting Director, Office of Sustainable Fisheries, National Marine Fisheries Service.

[FR Doc. 2010-33102 Filed 12-30-10; 8:45 am]

BILLING CODE 3210-22-P